DEPARTMENT OF AGRICULTURE

Agricultural Marketing Service

[Doc. No. AMS-CP-24-0047]

Notice of Request for an Extension of a Currently Approved Information Collection

AGENCY: Agricultural Marketing Service, USDA.

ACTION: Notice; request for comments.

SUMMARY: This notice announces the Agricultural Marketing Service's (AMS) intention to request approval, from the Office of Management and Budget, for an extension of the currently approved information collection request Web-Based Supply Chain Management (WBSCM) system. This information collection is necessary to support the procurement of agricultural commodities for domestic and international nutrition assistance programs. AMS issues invitations to purchase fresh and processed commodities for domestic and international nutrition assistance programs on a year-round basis. The extension of the information collection request is required to continue using the WBSCM system, which allows respondents to submit information entered and received electronically in WBSCM. Vendors will be able to access electronically. The information collection burden for respondents should not increase.

DATES: Comments on this notice must be received by October 1, 2024 to be assured of consideration.

ADDRESSES: Interested persons are invited to submit comments concerning this notice online using the electronic process available at https://www.regulations.gov. Written comments may be submitted to: Director, USDA/AMS-WBSCM Management Division, 1400 Independence Avenue SW, S-0239, Washington, DC 20250-0239. All comments submitted in response to this notice will be posted without change, including any personal information provided, at https://www.regulations.gov/, included in the record, and made available to the public.

FOR FURTHER INFORMATION CONTACT: Heather Calhoon, Director; WBSCM Management Division; Telephone: (202) 720-4517, or Email: HeatherM.Calhoon@usda.gov.

SUPPLEMENTARY INFORMATION:

Title: Web-Based Supply Chain Management.

OMB Number: 0581-0273.

Expiration Date of Approval: August 31, 2024

Type of Request: Extension of a Currently Approved Information Collection.

Abstract: AMS purchases commodities for various domestic and international nutrition assistance programs and provides support for commodity markets with surplus inventory. AMS issues invitations to purchase agricultural commodities for use in domestic and international nutrition assistance programs. In accordance with the Paperwork Reduction Act of 1995 (44 U.S.C. chapter 35), this information collection request is for the extension of the currently approved information collection for the WBSCM system where respondents will submit information electronically via that system. Vendor information, annual certification information, and all commodity offer information will be existing data sources, gathering and maintaining the data needed, and completing and reviewing the collection of information per response.

Public reporting burden for this collection of information is estimated to average 15 minutes per response, including the time for reviewing instructions, searching WBSCM to see the date and time the system shows for receipt of bid, bid modification, or bid cancellation information. At bid opening date and time, the bid information is evaluated through the WBSCM system.

Acceptances will be sent to the successful offerors electronically. Awarded contracts will be posted on the AMS website.

Estimate of Burden: Public reporting burden for this collection of information is estimated to average .22 hours per response.

Respondents: Businesses.

Estimated Annual Number of Respondents: 500.

Estimated Number of Responses: 239,308.4.

Estimated Annual Number of Responses per Respondent: 675.3.

Estimated Total Annual Burden on Respondents: 50,398.71.

Comments: Comments are invited on: (1) Whether the proposed collection of the information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology.

All responses to this notice will be summarized and included in the request for OMB approval. All comments will also become a matter of public record.

Erin Morris,
Associate Administrator, Agricultural Marketing Service.

[FR Doc. 2024-17036 Filed 8-1-24; 8:45 am]

BILLING CODE P